DEPARTMENT OF HEALTH AND HUMAN SERVICES

Administration for Community Living

Agency Information Collection Activities; Proposed Collection; Public Comment Request; Extension of a Currently Approved Information Collection; Annual Performance Reports for the Centers for Independent Living (CILs), Designated State Entities (DSEs), and Statewide Independent Living Councils (SILC) (704 Parts I and II Reports)

AGENCY: Independent Living Administration, Administration on Disabilities, Administration for Community Living, HHS.

ACTION: Notice.

SUMMARY: The Administration for Community Living (ACL) is announcing that the proposed collection of information listed above has been submitted to the Office of Management and Budget (OMB) for review and clearance as required under the Paperwork Reduction Act of 1995 (the PRA). This 30-day notice requests comments on the information collection requirements related to a proposed Extension Without Changes of a Currently Approved Information Collection (ICR Ext) (OMB approval number 0985-0023). The extension would allow ACL to continue to collect information necessary to determine grantee compliance with Title VII of the Rehabilitation Act of 1973, as Amended by the Workforce Innovation and Opportunity Act of 2014.

ACL received a large number of public comments resulting from a 60-day Federal Register notice for the 704 Part II report. In response to the comments, ACL is proposing to extend the currently approved forms for one year while we work on a revision that addresses all the comments from the 60-day notice regarding the updated form.

DATES: Submit written comments on the collection of information by October 16, 2017.

ADDRESSES: Submit written comments on the collection of information: By fax at 202.395.5806 or by email to OIRA_submission@omb.eop.gov, Attn: OMB Desk Officer for ACL.

FOR FURTHER INFORMATION CONTACT: Veronica Hogan at (202) 795-7365 or veronica.hogan@acl.hhs.gov.

SUPPLEMENTARY INFORMATION: Under the PRA (44 U.S.C. 3501-3520), Federal agencies must obtain approval from the Office of Management and Budget (OMB) for each collection of information they conduct or sponsor. “Collection of information” is defined in 44 U.S.C. 3502(3) and 5 CFR 1320.3(c) and includes agency requests or requirements that members of the public submit reports, keep records, or provide information to a third party. Section 3506(c)(2)(A) of the PRA (44 U.S.C. 3506(c)(2)(A)) requires Federal agencies to provide a 60-day notice in the Federal Register concerning each proposed collection of information, including each proposed extension or update of an existing collection of information, before submitting the collection to OMB for approval. The proposed data collection represents an extension of a currently approved information collection.

In order to comply with the above requirement, the Independent Living Administration (ILA) is requesting approval of an extension of a previously approved collection, the Centers for Independent Living Program Performance Report (704 Part II), and the Independent Living Services Program Performance Report (704 Part I) annual reports (0985-0043). Sections 704(m)(4)(D), 706(d), 721(b)(3), and 725(c) of the Rehabilitation Act of 1973 (Rehabilitation Act), as amended by the Workforce Innovation and Opportunity Act (WIOA, Pub. L. 113-128), and the corresponding regulations at 45 CFR part 1329, require centers for independent living (CILs) to submit annual performance reports to the Administrator of the Administration for Community Living (ACL) in order to receive continuation funding under the IL Parts B and C programs.

The 704 reports are submitted annually by all Centers for Independent Living, designated State entities and Statewide Independent Living Councils receiving IL Parts B and C funds. The 704 Parts I and II reports are used by ACL to assess grantees' compliance with title VII of the Act, with section 1329 of the Code of Federal Regulations, and with applicable provisions of the HHS regulations at 45 CFR part 75. The 704 Parts I and II reports serve as the primary basis for ACL's monitoring activities in fulfillment of its responsibilities under sections 706 and 722 of the Act. The 704 Parts I and II reports also enable ACL to collect qualitative and quantitative data to track performance outcomes and efficiency measures of the IL programs with respect to the annual and long-term performance targets established in compliance with the GPRA Modernization Act of 2010 (GPRAMA) reporting requirements. The 704 Parts I and II reports are also used by ACL to design CIL and SILC training and technical assistance programs authorized by section 721 of the Act.

Comments in Response to the 60-Day Federal Register Notice

A 60-day notice was published in the Federal Register in Vol. 82, No. 35, pg. 11471 on February 23rd, 2017. A Notice of Correction was published in the Federal Register in Vol. 82, No. 42 pg. 12610 on March 6th, 2017, announcing that ACL had made changes to the submission instructions, the public comments closing date was incorrect, the public comments email box was incorrect, and the core services were misstated in the original Federal Register posting ACL received comments from 50 (Fifty) organizations that provided 221 (Two Hundred and Twenty-One) individual comments about the proposed information collection. ACL reviewed all of the comments. The majority of the comments that ACL received expressed concerns over inclusion of sexual orientation and gender identity questions in the reporting instrument and asked that those questions be removed; the separate demographics and services provided to individuals with significant disabilities, and the need for clarification on the definitions and instructions as well as revisions to the IL core services and additional services sections of the updated reporting instrument. Further deliberation is needed to ensure that we appropriately address all of the concerns. This work will inform a redesign of the proposed information collection forms prior to the expiration of the extension.

Annual Burden Estimates

A copy of the existing Centers for Independent Living (CILs), designated State entities (DSEs) and Statewide Independent Living Councils (SILCs) Annual Performance Reports (704 Parts I and II reports can be found on ACL's Web site at: https://www.acl.gov/about-acl/public-input. The 704 Report's estimated hour burden per respondent each for the Part I (IL Part B) and Part II (IL Part C) in 2017 remains unchanged at 35 hours from 2014 because the current data collection instrument is the same as the one approved in 2014.

The total estimated hour burden also remains the same because the number of respondents, 412, has not changed since the 2014 approval.

The aggregate total hour burden for 412 Parts I and II 704 Report is estimated at 14,385, as follows:

Report | Number of DSEs and SILCs (Part B) | Frequency of responses per year | Average burden hours per response | Total annual burden hours
704 Report, Part I | 55 | 1 | 35 | 1,925

Report | Number of IL Centers (Part C) | Frequency of responses per year | Average burden hours per response | Total annual burden hours
704 Report, Part II | 356 | 1 | 35 | 12,460

Estimated Total Annual Burden Hours: 14,385.

Dated: September 11, 2017.
Mary Lazare,
Principal Deputy Administrator.

[FR Doc. 2017-19560 Filed 9-14-17; 8:45 am]

BILLING CODE 4154-01-P